DEPARTMENT OF ENERGY

Federal Energy Regulatory Commission

Combined Notice of Filings

Take notice that the Commission has received the following Natural Gas Pipeline Rate and Refund Report filings:

Filings Instituting Proceedings

Docket Numbers: RP16-165-000.

Applicants: Alliance Pipeline L.P.

Description: § 4(d) Rate Filing: Resubmit Oct 15-31 2015 Auction to be effective 10/15/2015.

Filed Date: 11/3/15.

Accession Number: 20151103-5001.

Comments Due: 5 p.m. ET 11/16/15.

Docket Numbers: RP16-166-000.

Applicants: Ozark Gas Transmission, L.L.C.

Description: § 4(d) Rate Filing: Munich Re Trading Negotiated Rate eff 12-1-2015 to be effective 12/1/2015.

Filed Date: 11/3/15.

Accession Number: 20151103-5061.

Comments Due: 5 p.m. ET 11/16/15.

Docket Numbers: RP16-167-000.

Applicants: Algonquin Gas Transmission, LLC.

Description: § 4(d) Rate Filing: ConEd Ramapo Releases for 11-3-2015 to be effective 11/3/2015.

Filed Date: 11/3/15.

Accession Number: 20151103-5066.

Comments Due: 5 p.m. ET 11/16/15.

Docket Numbers: RP16-169-000.

Applicants: Gulf South Pipeline Company, LP.

Description: § 4(d) Rate Filing: Rate Case Settlement Amendments Filing 2-resubmission to be effective 11/1/2015.

Filed Date: 11/3/15.

Accession Number: 20151103-5203.

Comments Due: 5 p.m. ET 11/16/15.

Docket Numbers: RP16-170-000.

Applicants: Rockies Express Pipeline LLC.

Description: § 4(d) Rate Filing: Neg Rate 2015-11-04 ConocoPhillips to be effective 11/4/2015.

Filed Date: 11/4/15.

Accession Number: 20151104-5002.

Comments Due: 5 p.m. ET 11/16/15.

Docket Numbers: RP16-171-000.

Applicants: Texas Gas Transmission, LLC.

Description: § 4(d) Rate Filing: Neg Rate Agmt Filing (Tenaska 35178) to be effective 11/1/2015.

Filed Date: 11/4/15.

Accession Number: 20151104-5062.

Comments Due: 5 p.m. ET 11/16/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 04, 2015.
Nathaniel J. Davis, Sr.,
Deputy Secretary.

[FR Doc. 2015-28643 Filed 11-10-15; 8:45 am]

BILLING CODE 6717-01-P